DEPARTMENT OF LABOR

Employment and Training Administration

[TA-W-74,281]

Humana Insurance Company, a Division Of Carenetwork, Inc., Green Bay, WI; Notice of Affirmative Determination Regarding Application for Reconsideration

By application dated August 23, 2010, petitioners requested administrative reconsideration of the negative determination regarding workers' eligibility to apply for Trade Adjustment Assistance (TAA) applicable to workers and former workers of the subject firm. The determination was issued on August 13, 2010. The Notice of Determination was published in the Federal Register on August 30, 2010 (75 FR 52986). Workers are engaged in employment related to the supply of health insurance benefits.

The negative determination applicable to workers and former workers at Humana Insurance Company, a Division of CareNetwork, Inc., Green Bay, Wisconsin was based on the findings that the subject firm did not, during the period under investigation, shift to a foreign country services like or directly competitive with the supply of health insurance benefits provided by the workers or acquire these services from a foreign country; that the workers' separation, or threat of separation, was not related to any increase in imports of like or directly competitive services; and that the workers did not supply a service that was directly used in the production of an article or the supply of service by a firm that employed a worker group that is eligible to apply for TAA based on the aforementioned article or service.

In the request for reconsideration, the petitioners provided additional information pertaining to a shift in services abroad.

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 9th day of September 2010.
Del Min Amy Chen,
Certifying Officer, Office of Trade Adjustment Assistance.

[FR Doc. 2010-23495 Filed 9-20-10; 8:45 am]

BILLING CODE 4510-FN-P